DEPARTMENT OF AGRICULTURE

Submission for OMB Review; Comment Request

December 1, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Biomass Crop Assistance Program (BCAP).

OMB Control Number: 0560-0263.

Summary of Collection: The Farm Service Agency (FSA) in Conservation and Environment Programs Division has been tasked with implementing the Biomass Crop Assistance Program (BCAP) authorized by section 9001 of the 2008 Farm Bill (Pub. L. 220-246), which amends Title IX of the Farm Security and Rural Investment Act of 2002 and adds section 9011 for BCAP. On May 5, 2009, the President issued a Presidential Directive to the Secretary of Agriculture to aggressively accelerate the investment in and production of biofuels. The Presidential Directive requests that the Secretary of Agriculture take steps to the extent permitted by law to expedite and increase production of and investment in biofuel development efforts by making renewable energy financing opportunities and including guidance and support for the collection, harvest, storage, and transportation (CHST) assistance of eligible materials for use in biomass conversion facilities.

Need and Use of the Information: Information collected will be collected using forms AD-245 and AD-247. The collected information from eligible biomass owners and biomass conversion facilities meeting the requirements for CHST qualification is necessary in order to ensure the financial accountability needed to operate and administer the BCAP. The information will be used to produce reports, as needed by FSA to inform the public how FSA has administered CHST funds at the State and country levels and to establish a list of CHST qualified biomass conversion facilities.

Description of Respondents: Farm; Business or other for-profit.

Number of Respondents: 5,600.

Frequency of Responses: Reporting: Annually.

Total Burden Hours: 38,700.

Ruth Brown,
Departmental Information Collection Clearance Officer.

[FR Doc. E9-28964 Filed 12-3-09; 8:45 am]

BILLING CODE 3410-05-P